DEPARTMENT OF TRANSPORTATION

Office of the Secretary

[Docket No. DOT-OST—2014-0011]

National Freight Advisory Committee: Notice of Public Meeting

ACTION: Notice of public meeting.

SUMMARY: The U.S. Department of Transportation (DOT) announces a public meeting of its National Freight Advisory Committee (NFAC) to discuss the freight provisions in the various surface transportation reauthorization proposals, including the GROW AMERICA Act and the MAP-21 Reauthorization Act. Meetings are open to the public and there will be an opportunity for public comment on each day.

DATES: Dates and Times: The meeting will be held on Tuesday, July 15, 2014, from 9:15 a.m. to 4:30 p.m., Eastern Standard Time and Wednesday, July 16, 2014 from 9:30 a.m. to 12:00 p.m., Eastern Standard Time.

Location: On Tuesday, July 15, 2014, the meeting will be held in the Dirksen Senate Office Building, Room G-11 from 9:15 a.m. to 12:00 p.m. and the Rayburn House Office Building, Room 2167 from 1:30 p.m. to 4:30 p.m. On Wednesday, July 16, 2014, the meeting will be held at the U.S. Department of Transportation, 1200 New Jersey Avenue SE., Washington, DC 20590.

FOR FURTHER INFORMATION CONTACT: John Drake, Designated Federal Officer at (202) 366-1999 or freight@dot.gov or visit the NFAC Web site at www.dot.gov/nfac.

Additional Information

Background: The NFAC was established to provides advice and recommendations to the Secretary on matters related to freight transportation in the United States, including (1) implementation of the freight transportation requirements of the Moving Ahead for Progress in the 21st Century Act (MAP-21; Pub. L. 112-141); (2) establishment of the National Freight Network; (3) development of the Plan; (4) development of strategies to help States implement State Freight Advisory Committees and State Freight Plans; (5) development of measures of conditions and performance in freight transportation; (6) development of freight transportation investment, data, and planning tools; and (7) legislative recommendations. The NFAC operates as a discretionary committee under the authority of the DOT, established in accordance with the provisions of the Federal Advisory Committee Act (FACA), as amended, 5 U.S.C. App. 2. See DOT's NFAC Web site for additional information about the committee's activities at www.dot.gov/nfac.

Agenda: The two day agenda will include:

(1) Welcome and opening remarks;

(2) Congressional remarks;

(3) Overview of freight provisions in surface transportation reauthorization proposals;

(4) Discussion on freight reauthorization proposals;

(5) Public comment will occur at the end of each day.

The meeting agenda will be posted on the NFAC Web site at www.dot.gov/nfac in advance of the meeting.

Public Participation: This meeting will be open to the public. Members of the public who wish to attend in person are asked to RSVP to freight@dot.gov with your name and affiliation no later than July 7, 2014, in order to facilitate entry and guarantee seating.

Services for Individuals with Disabilities: The public meeting is physically accessible to people with disabilities. Individuals requiring accommodations, such as sign language interpretation or other ancillary aids, are asked to notify John Drake, at (202) 366-1999 or freight@dot.gov five (5) business days before the meeting.

Written comments: Persons who wish to submit written comments for consideration by the Committee must email freight@dot.gov or send them to John Drake, Designated Federal Officer, National Freight Advisory Committee, 1200 New Jersey Avenue SE., W82-320, Washington, DC 20590 by July 7, 2014 to provide sufficient time for review. All other comments may be received at any time before or after the meeting.

Dated: June 26, 2014.
John Drake,
Designated Federal Officer.

[FR Doc. 2014-15461 Filed 7-1-14; 8:45 am]

BILLING CODE 4910-9X-P